DEPARTMENT OF ENERGY

Federal Energy Regulatory Commission

[Docket No. PR04-7-001]

Raptor Natural Pipeline LLC; Notice of Offer of Settlement

April 29, 2004.

Take notice that on April 23, 2004, Raptor Natural Pipeline LLC (Raptor) filed an Offer of Settlement and Stipulation and Agreement (Settlement) in the above referenced proceeding. Raptor and Commission Staff (the only participants) have agreed to the continued use of market based rates for storage services, and the following maximum rates for transportation service and in-kind fuel reimbursement percentages: (i) Firm transportation rate of $1.6796/Dth/month; (ii) interruptible transportation rate of $0.0552 per Dth; (iii) loss and unaccounted for allowance of 0.15%; (iv) APEX Compression Station Fuel Usage of 1.58%; and (v) Booster Compression Station Fuel Usage of 0.62%.

The Settlement also provides that, on or before December 31, 2006, Raptor shall file an application in which Raptor proposes, pursuant to section 284.123(b)(2) of the Commission's regulations, either to justify its current effective rates or to establish new system rates applicable to section 311(a)(2) services.

Initial comments on Raptor's filing are due on or before May 3, 2004, and reply comments are due on or before May 7, 2004. Comments, protests and interventions may be filed electronically via the Internet in lieu of paper. See 18 CFR 385.2001(a)(1)(iii) and the instructions on the Commission's Web site under the “Documents & Filing” tab.

Linda Mitry,
Acting Secretary.

[FR Doc. E4-1027 Filed 5-4-04; 8:45 am]

BILLING CODE 6717-01-P